FEDERAL COMMUNICATIONS COMMISSION

47 CFR Part 73

[DA 05-2368; MM Docket No. 00-87; RM-9870, RM-9961]

Radio Broadcasting Services; Bend, Brightwood, Madras, Prineville, OR

AGENCY: Federal Communications Commission.

ACTION: Final rule; dismissal of petition for reconsideration.

SUMMARY: This document dismisses a Petition for Reconsideration filed by Muddy Broadcasting Company directed at the Report and Order in this proceeding. See 66 FR 56486, published November 8, 2001. This document also waive the provisions of Section 1.420(j) of the Commission's rules, consistent with the Public Notice entitled Window Announced for Universal Settlements of Pending Rulemaking Proceedings to Amend FM Table of Allotments, 20 FCC Rcd 10756 (MB 2005), with this action, the proceeding is terminated.

FOR FURTHER INFORMATION CONTACT: Victoria M. McCauley, Media Bureau (202) 418-2180.

SUPPLEMENTARY INFORMATION: This is a synopsis of the Commission's Memorandum Opinion and Order, MM Docket No. 00-87, adopted September 14, 2005, and released September 16, 2005. The full text of this decision is available for inspection and copying during normal business hours in the FCC Reference Information Center at Portals ll, CY-A257, 445 12th Street, SW., Washington, DC. The complete text of this decision may also be purchased from the Commission's copy contractor, Best Copy and Printing, Inc., 445 12th Street, SW., Room CY-B402, Washington, DC, 20054, telephone 1-800-378-3160 or http://www.BCPIWEB.com. The Commission will not send a copy of this Memorandum Opinion and Order pursuant to the Congressional Review Act, see 5 U.S.C. 801(a)(1)(A), because the aforementioned petition for reconsideration was dismissed.

Federal Communications Commission.
John A. Karousos,
Assistant Chief, Audio Division, Media Bureau.

[FR Doc. 05-19049 Filed 9-27-05; 8:45 am]

BILLING CODE 6712-01-P